ENVIRONMENTAL PROTECTION AGENCY

[FRL- 9959-29-OAR]

Inventory of U.S. Greenhouse Gas Emissions and Sinks: 1990-2015

AGENCY: Environmental Protection Agency (EPA).

ACTION: Notice of document availability and request for comments.

SUMMARY: The Draft Inventory of U.S. Greenhouse Gas Emissions and Sinks: 1990-2015 is available for public review. Annual U.S. emissions for the period of time from 1990 through 2015 are summarized and presented by source category and sector. The inventory contains estimates of carbon dioxide (CO2), methane (CH4), nitrous oxide (N2O), hydrofluorocarbons (HFC), perfluorocarbons (PFC), sulfur hexafluoride (SF6), and nitrogen trifluoride (NF3) emissions. The technical approach used in this report to estimate emissions and sinks for greenhouse gases is consistent with the methodologies recommended by the Intergovernmental Panel on Climate Change (IPCC), and reported in a format consistent with the United Nations Framework Convention on Climate Change (UNFCCC) reporting guidelines. The Inventory of U.S. Greenhouse Gas Emissions and Sinks: 1990-2015 is the latest in a series of annual, policy-neutral U.S. submissions to the Secretariat of the UNFCCC. EPA requests recommendations for improving the overall quality of the inventory report to be finalized in April 2017, as well as subsequent inventory reports.

DATES: To ensure your comments are considered for the final version of the document, please submit your comments by March 17, 2017. However, comments received after that date will still be welcomed and considered for the next edition of this report.

ADDRESSES: Comments should be submitted to GHG Inventory at: Environmental Protection Agency, Climate Change Division (6207A), 1200 Pennsylvania Ave. NW., Washington, DC 20460, Fax: (202) 343-2338. You are welcome and encouraged to send an email with your comments to GHGInventory@epa.gov.

FOR FURTHER INFORMATION CONTACT: Ms. Mausami Desai, Environmental Protection Agency, Office of Air and Radiation, Office of Atmospheric Programs, Climate Change Division, (202) 343-2338, desai.mausami@epa.gov.

SUPPLEMENTARY INFORMATION: The draft report is available at: http://www3.epa.gov/climatechange/ghgemissions/usinventoryreport.html.

Dated: February 3, 2017.
Reid P. Harvey,
Acting Director, Office of Atmospheric Programs.

[FR Doc. 2017-03070 Filed 2-14-17; 8:45 am]

BILLING CODE 6560-50-P